DEPARTMENT OF ENERGY

Federal Energy Regulatory Commission

[P-15249-002]

Lewis Ridge Pumped Storage, LLC; Notice of Application Tendered for Filing With the Commission and Soliciting Additional Study Request and Establishing Procedural Schedule for Licensing and a Deadline for Submission of Final Amendments

Take notice that the following hydroelectric application has been filed with the Commission and is available for public inspection.

a. Type of Application: Original Major License.

b. Project No.: 15249-002.

c. Date Filed: June 13, 2025.

d. Applicant: Lewis Ridge Pumped Storage, LLC.

e. Name of Project: Lewis Ridge Pumped Storage Project.

f. Location: The proposed project would be located near the towns of Blackmont, Tejay, Balkan, and Callaway, in Bell County, Kentucky.

g. Filed Pursuant to: Federal Power Act, 16 U.S.C. 791 (a)-825(r).

h. Applicant Contact: Sandy Slayton, Rye Development, 1455 SW Broadway Street, Suite 290, Portland, Oregon 97201; (503) 341-1425; email: sandy@ryedevelopment.com.

i. FERC Contact: Monte TerHaar at (202) 502-6035, or monte.terhaar@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Standard Time on August 12, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Lewis Ridge Pumped Storage Project (P-15249-002).

m. This application is not ready for environmental analysis at this time.

n. Project Description: The proposed Lewis Ridge Pumped Storage Project would consist of the following: (1) a 48.2-acre upper reservoir created by a 8,241-foot-long, 50-foot-high rocky earth-fill dam with an integrated emergency overflow spillway; (2) a 4,174-foot-long aboveground penstock; (3) a powerhouse located 267 feet below ground, containing two 154 MW reversible pump-turbines with a total rated capacity of 308 MW; (4) a 51.6-acre lower reservoir created by a 1,120-foot-long, 138-foot-high earth-fill dam, with an integrated emergency overflow spillway; (5) a permanent screened intake and pump station on the Cumberland River, connecting to a 4,724-foot-long, 24-inch diameter buried pipeline that passes flows to a stilling basin connected to the lower reservoir; (6) a 2.5-mile-long, 161-kilovolt transmission line with two switching stations, connecting the project to the existing Pineville-Harlan #1 transmission line; and (7) appurtenant facilities.

o. In addition to publishing the full text of this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-14796). For assistance, please contact FERC Online Support at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

q. Procedural schedule and final amendments: The application will be processed according to the following preliminary schedule. Revisions to the schedule will be made as appropriate.

Milestone | Target date
Deficiency letter (if necessary) | September 2025.
Additional Information Request (if necessary) | November 2025.
Issue Scoping Document 1 for comments | February 2026.
Issue Scoping Document 2 (if necessary) | April 2026.
Notice of Acceptance/Notice of Ready for Environmental Analysis | June 2026.

r. Final amendments to the application must be filed with the Commission no later than 30 days from the issuance date of the notice of ready for environmental analysis.

Dated: June 26, 2025.
Carlos D. Clay,
Deputy Secretary.

[FR Doc. 2025-12264 Filed 6-30-25; 8:45 am]

BILLING CODE 6717-01-P